DEPARTMENT OF DEFENSE

Office of the Secretary

[Docket ID: DoD-2021-OS-0020]

Submission for OMB Review; Comment Request

AGENCY: Office of the Under Secretary of Defense for Personnel and Readiness, Department of Defense (DoD).

ACTION: Information collection notice.

SUMMARY: Consistent with the Paperwork Reduction Act of 1995 and its implementing regulations, this document provides notice DoD is submitting an Information Collection Request to the Office of Management and Budget (OMB) to collect information on Reserve and National Guard used in evaluating existing policies and programs, establishing baseline measures before implementing new policies and programs, and monitoring the progress of policies/programs that make a difference in the lives of Reserve component members and their families. DoD requests emergency processing and OMB authorization to collect the information after publication of this Notice for a period of six months.

DATES: Comments must be received by April 16, 2021.

ADDRESSES: The Department has requested emergency processing from OMB for this information collection request by 15 days after publication of this notice. Interested parties can access the supporting materials and collection instrument as well as submit comments and recommendations to OMB at www.reginfo.gov/public/do/PRAMain. Find this particular information collection by selecting “Currently under 15-day Review—Open for Public Comments” or by using the search function. Comments submitted in response to this notice will be summarized and included in the request for OMB approval of this information collection. They will also become a matter of public record.

FOR FURTHER INFORMATION CONTACT: Angela James, 571-372-7574, or whs.mc-alex.esd.mbx.dd-dod-information-collections@mail.mil.

SUPPLEMENTARY INFORMATION: The Status of Forces Reserve Survey (SOFS-R) is a DoD-wide survey of Reserve and National Guard used in evaluating existing policies and programs, establishing baseline measures before implementing new policies and programs, and monitoring the progress of policies/programs that make a difference in the lives of Reserve component members and their families. The survey assesses topics such as financial well-being, reintegration programs following activation/deployment, outreach to civilian employers, employer support, family support programs, and benefits (i.e., education, commissary/exchange, health care), and suicide awareness. Data are aggregated by appropriate demographics, including Service, paygrade, gender, race/ethnicity, activation status, and other indicators. In order to be able to meet reporting requirements for DoD leadership, the Military Services, and Congress, the survey needs to be completed by fall 2021. As required by the NDAA, the results of this survey are used by each of the Service Secretaries to evaluate and update training. In addition, the Undersecretary of Defense for Personnel and Readiness uses the SOFS-R to suggest changes to services supporting Reserve component members' ability to return to their families and their civilian jobs following activation/deployment as well as addressing retention, health care, and family life issues.

Title; Associated Form; and OMB Number: Status of Forces Survey (Reserve).

Type of Request: New.

Number of Respondents: 16,515.

Responses per Respondent: 1.

Annual Responses: 16,515.

Average Burden per Response: 30 minutes.

Annual Burden Hours: 8,258.

Affected Public: Individuals or households.

Frequency: Annually.

Respondent's Obligation: Voluntary.

Request for Comments: Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: March 29, 2021.
Aaron T. Siegel,
Alternate OSD Federal Register Liaison Officer, Department of Defense.

[FR Doc. 2021-06713 Filed 3-31-21; 8:45 am]

BILLING CODE 5001-06-P